FEDERAL MARITIME COMMISSION

[Docket No. FMC-2023-0017]

Agency Information Collection Activities: 30-Day Public Comment Request

AGENCY: Federal Maritime Commission.

ACTION: Thirty-day notice; request for comments.

SUMMARY: The Federal Maritime Commission (Commission) is giving public notice that the agency has submitted to the Office of Management and Budget (OMB) for approval a renewal of an existing information collection related to Ocean Common Carrier and Marine Terminal Operator Agreements Subject to the Shipping Act of 1984. The public is invited to comment on the information collection pursuant to the Paperwork Reduction Act of 1995.

DATES: Written comments must be submitted on or before 11:59 p.m. Eastern Standard Time on December 27, 2023.

ADDRESSES: Comments should be submitted to: (1) the Commission through the Federal eRulemaking Portal at www.regulations.gov (docket FMC-2023-0017); and (2) the Office of Management and Budget's Office of Information and Regulatory Affairs through the portal at https://www.reginfo.gov/public/do/PRAMain.

Find this particular information collection at Reginfo.gov by selecting “Currently under Review—Open for Public Comments” or by using the search function.

If your material cannot be submitted to the addresses above, contact the person in the FOR FURTHER INFORMATION CONTACT section of this document for alternate instructions.

A copy of this notice can be found at https://www.regulations.gov/ under Docket No. FMC-2023-0017. The associated forms can be found at the same location.

FOR FURTHER INFORMATION CONTACT: Amy Strauss, Acting Secretary; Phone: (202) 523-5725; Email: secretary@fmc.gov.

SUPPLEMENTARY INFORMATION:

Request for Comments

The Commission, as part of its continuing effort to reduce paperwork and respondent burden, invites the general public and other Federal agencies to comment on the continuing information collections listed in this notice, as required by the Paperwork Reduction Act of 1995 (44 U.S.C. 3501 et seq.).

Comments submitted in response to this notice will be included or summarized in our request for OMB approval of the relevant information collection. All comments are part of the public record and subject to disclosure. Please do not include any confidential or inappropriate material in your comments. We invite comments on: (1) the necessity and utility of the proposed information collection for the proper performance of the agency's functions; (2) the accuracy of the estimated burden; (3) ways to enhance the quality, utility, and clarity of the information to be collected; and (4) the use of automated collection techniques or other forms of information technology to minimize the information collection burden.

Previous Request for Comments

On August 23, 2023, the Commission published a notice and request for comment in the Federal Register (88 FR 57459) regarding the agency's request for approval from OMB for information collections as required by the Paperwork Reduction Act of 1995. During the 60-day period, the Commission received no comments on the request for OMB clearance.

Information Collections Open for Comment

Title: 46 CFR 535—Ocean Common Carrier and Marine Terminal Operator Agreements Subject to the Shipping Act of 1984.

OMB Approval Number: 3072-0045 (Expires February 29, 2024).

Abstract: Section 4 of the Shipping Act of 1984, 46 U.S.C. 40301(a)-(c), identifies certain agreements by or among ocean common carriers (carriers) and marine terminal operators (MTOs) that fall within the jurisdiction of that Act. Section 5 of the Act, 46 U.S.C. 40302, requires that carriers and MTOs file those agreements with the Federal Maritime Commission. Section 6 of the Act, 46 U.S.C. 40304, 40306, and 41307(b)-(d), specifies the Commission actions that may be taken with respect to filed agreements, including requiring the submission of additional information. Section 15 of the Act, 46 U.S.C. 40104, authorizes the Commission to require that carriers and MTOs, among other persons, file periodic or special reports. Requests for additional information and the filing of periodic or special reports are meant to assist the Commission in fulfilling its statutory mandate of overseeing the activities of the ocean transportation industry. These reports are necessary so that the Commission can monitor agreement parties' activities to determine how or if their activities will have an impact on competition.

This update includes a revised FMC-150 form, which is collected upon agreement filing for a subset of agreements under 46 CFR part 535. The Commission intends that filers will have a choice between using the existing FMC-150 or the revised FMC-150 pending any other changes in part 535 through rulemaking. This update also includes an increase in the number of responses received. The total estimated burden hours has decreased.

Current Actions: Revision of Form FMC-150.

Type of Review: Extension.

Needs and Uses: The Commission uses the information filed by agreement parties to monitor their activities as required by the Shipping Act. Under 46 U.S.C. 41307, the Commission must determine whether an agreement will have, or has resulted in, a substantial reduction in competition within the prevailing market leading to an unreasonable reduction in transportation service or an unreasonable increase in transportation costs “or to substantially lessen competition in the purchasing of certain covered services.” In such cases, the Commission would take action to seek to enjoin the agreement in the U.S. District Court for the District of Columbia.

Frequency: This information will be collected as required by the regulations at part 535.

Type of Respondents: The types of respondents are marine terminal operators, vessel-operating common carriers (VOCCs), and other parties to FMC-filed agreements.

Number of Annual Respondents: The 2019 notice stated that the number of respondents was 334. This number erroneously counted the number of VOCCs and MTOs as the number of respondents. The adjusted number accounts for the number of filings of agreements and monitoring information, as well as those subject to recordkeeping, under the regulations at part 535. Some MTOs and VOCCs are not required to submit any information, some are subject only to the recordkeeping, and a relatively small subset are parties to multiple agreements and therefore file multiple types of information under this collection with different periodicity. The agency will consider these separate respondents for the purpose of this collection. The total number is 2,887.

Estimated Time Per Response:

Responses associated with Agreement filings under part 535:

• The average time per response to file an Agreement that includes Form FMC-150 is 75 hours.

• The average time per response to file an Agreement that does not require FMC-150 is 6 hours.

• The time to file an Agreement termination averages 0.25 hours.

Responses associated with Monitoring Requirements under part 535:

• The average time for meeting minutes is 2 hours.

• The average time for filing quarterly monitoring reports for VOCC rate discussion agreements is 50 hours.

• The average time for filing FMC-151 (filed by alliance parties) is 160 hours.

• Other reporting requirements average 10 hours.

• Recordkeeping for optionally filed agreements is estimated at 0.25 hours.

Total Annual Burden:

Associated with Agreement filings under part 535:

• Filing an Agreement that includes Form FMC-150: 15 responses × 75 hours = 1,125 person-hours.

• Filing an Agreement that does not require FMC-150: 60 responses × 6 hours = 360 person-hours.

• Termination of Agreements: 36 responses × 0.25 hours = 9 person-hours.

Associated with Monitoring Requirements under part 535:

• Filing meeting minutes: 850 responses × 2 hours = 1,700 person-hours.

• Reporting for VOCC rate discussion agreements: 40 × 50 = 2,000 person-hours.

• Reporting on FMC-151 (filed by Alliance parties): 36 × 160 = 5,760 person-hours.

• Other reporting requirements = 300 × 10 = 3,000 person-hours.

• Recordkeeping for optionally filed agreements = 1,300 × 0.25 = 325 person-hours.

Total burden equals 14,279 hours.

Carl Savoy,
Federal Register Alternate Liaison Officer.

[FR Doc. 2023-26086 Filed 11-24-23; 8:45 am]

BILLING CODE 6730-02-P